DEPARTMENT OF JUSTICE

Notice of Lodging of Settlement Agreement Under Comprehensive Environmental Response, Compensation and Liability Act

In accordance with Departmental policy, 28 CFR 50.7, notice is hereby given that a proposed Settlement Agreement in In re Joy Technologies, Inc. (d/b/a Joy Mining Machinery), C.A. No. 99-2194 (Bnkr. Ct. Del.), was lodged on February 21, 2001, with the United States Bankruptcy Court for the District of Delaware. The Settlement Agreement resolves the United States' claims against Joy Technologies, Inc. (d/b/a Joy Mining Machinery) (“Joy”) with respect to past response costs incurred and future costs to be incurred, pursuant to Section 107 of the Comprehensive Environmental Response, Compensation and Liability Act, 42 U.S.C. 9607, in connection with the clean-up of the Route 52 Site, Bluefield, Mercer County, West Virginia. The Settlement Agreement also resolves the United States' claims for civil penalties, pursuant to section 106(b) of CERCLA, 42 U.S.C. 9606(b), and punitive damages, pursuant to section 107(c)(3) of CERCLA, 42 U.S.C. 9607(c)(3).

Under the Settlement Agreement, Joy has agreed to give EPA, a general unsecured creditor, an allowed claim in the amount of $7,000,000.00, plus interest, in reimbursement of response costs incurred in connection with the Site. Joy will pay the allowed claim on the same basis as its pays the allowed claims of all other unsecured creditors. In addition, Joy has agreed to pay the United States $1,500,000.00 to resolve the United States' claims pursuant to section 106(b) and 107(c)(3) of CERCLA, 42 U.S.C. 9606(b), 9607(c)(3). The latter amount will be paid within 78 months from the date the Bankruptcy Court approves the plan of reorganization for Harnischfeger Industries Incorporated and the other debtors, including Joy, involved in Bankruptcy Case Number 99-2177 (Jointly Administered), pending in the District of Delaware.

The Department of Justice will receive, for a period of 30 days from the date of this publication, comments relating to the proposed Settlement Agreement. Comments should be addressed to the Assistant Attorney General for the Environment and Natural Resources Division, Department of Justice, Washington, DC 20530, and should refer to In re Joy Technologies, Inc. (d/b/a Joy Mining Machinery), DOJ Reference No. 90-11-2-207/6.

The proposed Settlement Agreement may be examined at the Office of the United States Attorney, Chemical Bank Plaza, 1201 Market Street, Suite 1100, Wilmington, Delaware 19899; and the Region III Office of the Environmental Protection Agency, 1650 Arch Street, Philadelphia, Pennsylvania 19103. A copy of the proposed Settlement Agreement may be obtained by mail from the Department of Justice Consent Decree Library, P.O. Box 7611, Washington, DC 20044. In requesting a copy, please refer to the referenced case and enclose a check in the amount of $3.25 (.25 cents per page production costs), payable to the Consent Decree Library.

Robert D. Brook,
Assistant Section Chief, Environmental Enforcement Section, Environment and Natural Resources Division.

[FR Doc. 01-4741 Filed 2-26-01; 8:45 am]

BILLING CODE 4410-15-M